DEPARTMENT OF COMMERCE

National Oceanic and Atmospheric Administration

RIN: 0648-XC96

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Joint Dogfish Committee, Research Set-Aside Committee (RSA), Law Enforcement Committee, and Executive Committee will hold public meetings.

DATES: The meetings will be held on Tuesday, October 16, 2007 through Thursday, October 18, 2007. See SUPPLEMENTARY INFORMATION for specific dates and times.

ADDRESSES: The meetings will be held at the New Bern Convention Center, 203 South Front St, New Bern, NC 28563; telephone: (252) 637-1551.

Council address: Mid-Atlantic Fishery Management Council, 300 S. New Street, Dover, DE 19904; telephone: (302) 674-2331.

FOR FURTHER INFORMATION CONTACT: Daniel T. Furlong, Executive Director, Mid-Atlantic Fishery Management Council; telephone: (302) 674-2331, ext. 19.

SUPPLEMENTARY INFORMATION: On Tuesday, October 16, the Joint Dogfish Committee will meet from 10 a.m. until noon. The RSA Committee will meet from 1 p.m. until 4 p.m. The Law Enforcement Committee will meet from 4 p.m. until 4:30 p.m. The Council will convene at 8:30 a.m. on Wednesday, October 17 and remain in session until 4:15 p.m. at which time the Executive Committee will meet until 5:30 p.m. On Thursday October 18, the Council will convene at 9 a.m. and remain in session until approximately 1 p.m.

Agenda items by day for the Council's committees and the Council itself are:

Tuesday, October 16 - the Joint Dogfish Committee will review and develop the Dogfish Monitoring Committee's recommendations regarding the 2008/09 fishing year quota and related management measures for Council consideration and action. The Research Set-Aside Committee (RSA) will review the New England Council's policy for incorporation of research results into fishery management programs. The Law Enforcement Committee will review Fisheries Achievement Award (FAA) nominations, recommend recipient(s) for that award recognition, and review the Council's Award Recognition Program Survey results.

Wednesday, October 17 - the Council will swear in new and reappointed Council members and elect Council officers. The Council will receive a report by Dr. Jim Weinberg on the recent Monkfish Stock Assessment. The Council will consider adjustments to the current Monkfish Management Program and discuss the need for a new framework for the 2008 fishing year and if necessary initiate such a framework. The Council will review and discuss the Dogfish Committee's recommendations for the dogfish quota and related management measures for the 2008/09 fishing year and adopt the quota and related management measures for the 2008/09 fishing year and beyond. The Council will then receive a presentation by Dr. Mike Fogarty on the Northeast Fisheries Science Center's current ecosystem activities. The Council will conduct its business session, receive organizational reports, receive the New England Council liaison report, the Executive Director's report, status of the Mid-Atlantic Fishery Management Council's Fishery Management Plans (FMP), and Committee reports. The Council will receive a presentation by Preston Pate on the NMFS' Marine Recreational Information Program (MRIP). The Executive Committee will then review the highlights of the Magnuson-Stevens Reauthorization Act Workshop, review the highlights of the Northeast Regional Coordinating Council (NRCC) meeting, and review the Council's proposed 2008 Annual Work Plan (AWP).

Thursday, October 18 - the Council will convene at 9 a.m. to review and approve the Draft Supplemental Environmental Impact Statement (DSEIS) and public hearing document (PHD) for Amendment 10 to the Squid, Mackerel, and Butterfish FMP which is intended to rebuild the butterfish fishery. The Council will then consider any continuing and/or new business.

Although non-emergency issues not contained in this agenda may come before the Council for discussion, these issues may not be the subject of formal Council action during these meetings. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to M. Jan Bryan, (302) 674-2331 ext. 18, at least 5 days prior to the meeting date.

Dated: September 26, 2007.
Tracey L. Thompson,
Acting Director, Office of Sustainable Fisheries, National Marine Fisheries Service.

[FR Doc. E7-19371 Filed 10-1-07; 8:45 am]

BILLING CODE 3510-22-S